DEPARTMENT OF LABOR

Employment and Training Administration

[TA-W-71,793]

Cyber Optics Corporation, Minneapolis, MN; Notice of Termination of Investigation

Pursuant to Section 223 of the Trade Act of 1974, as amended, an investigation was initiated in response to a petition filed by a state official on May 18, 2009 on behalf of workers of Cyber Optics Corporation, Minneapolis, Minnesota.

The petitioning group of workers is covered by an active certification, (TA-W-70,120) which expires on July 29, 2011. Consequently, further investigation in this case would serve no purpose, and the investigation has been terminated.

Signed at Washington, DC, this 30th day of July 2009.
Richard Church,
Certifying Officer, Division of Trade Adjustment Assistance.

[FR Doc. E9-20475 Filed 8-25-09; 8:45 am]

BILLING CODE 4510-FN-P